DEPARTMENT OF DEFENSE

Office of the Secretary

[Docket ID: DOD-2011-OS-0082]

Privacy Act of 1974; System of Records

AGENCY: Office of the Secretary of Defense, Personnel and Readiness, Department of Defense.

ACTION: Notice to delete a System of Records.

SUMMARY: The Office of the Secretary of Defense (Personnel and Readiness) is deleting systems of records notice from its existing inventory of record systems subject to the Privacy Act of 1974, (5 U.S.C. 552a), as amended.

DATES: This proposed action will be effective without further notice on August 29, 2011 unless comments are received which result in a contrary determination.

ADDRESSES: You may submit comments, identified by docket number and title, by any of the following methods:

* Federal Rulemaking Portal: http://www.regulations.gov. Follow the instructions for submitting comments.

* Mail: Federal Docket Management System Office, 1160 Defense Pentagon, Washington, DC 20301-1160.

Instructions: All submissions received must include the agency name and docket number for this Federal Register document. The general policy for comments and other submissions from members of the public is to make these submissions available for public viewing on the Internet at http://www.regulations.gov as they are received without change, including any personal identifiers or contact information.

FOR FURTHER INFORMATION CONTACT: Mrs. Cindy Allard, Privacy Act Officer, Office of Freedom of Information, Washington Headquarters Services, 1155 Defense Pentagon, Washington, DC 20301-1155, or by phone at (703) 588-6830.

SUPPLEMENTARY INFORMATION: The Office of the Secretary of Defense systems of records notices subject to the Privacy Act of 1974, (5 U.S.C. 552a), as amended, have been published in the Federal Register and are available from the address in FOR FURTHER INFORMATION CONTACT.

The Office of the Secretary of Defense proposes to delete one system of records notice from its inventory of record systems subject to the Privacy Act of 1974 (5 U.S.C. 552a), as amended. The proposed deletion is not within the purview of subsection (r) of the Privacy Act of 1974, (5 U.S.C. 552a), as amended, which requires the submission of a new or altered system report.

Dated: July 25, 2011.
Aaron Siegel,
Alternate OSD Federal Register Liaison Officer, Department of Defense.

Deletion:

DPR 28

System name:

Military Deployment Issues Files (April 20, 2001, 66 FR 20276).

Reason:

Based on a recent review of DPR 28, Military Deployment Issues Files of the Special Assistant to the Under Secretary of Defense, it has been concluded that DPR 28 is duplicative of DHA 05 Military Deployment Issues Files (March 29, 2006, 71 FR 15701), and can therefore be deleted.

[FR Doc. 2011-19248 Filed 7-28-11; 8:45 am]

BILLING CODE 5001-06-P